DEPARTMENT OF AGRICULTURE

Forest Service

Information Collection; Qualified Products List for Foam Fire Suppressants

AGENCY: Forest Service, USDA.

ACTION: Notice; request for comment.

SUMMARY: In accordance with the Paperwork Reduction Act of 1995, the Forest Service is seeking comments from all interested individuals and organizations on the extension (without revision) of a currently approved information collection, Qualified Products List for Foam Fire Suppressants.

DATES: Comments must be received in writing on or before August 4, 2008 to be assured of consideration. Comments received after that date will be considered to the extent practicable.

ADDRESSES: Comments concerning this notice should be addressed to Victoria Henderson, Branch Director, Equipment and Chemicals, Forest Service, USDA, National Interagency Fire Center, 3833 S. Development Avenue, Boise, Idaho 83705.

Comments also may be submitted via facsimile to 208-387-5971 or by e-mail to: thenderson@fs.fed.us.

The public may inspect comments received at the National Interagency Fire Center (NIFC), Jack Wilson Building, Boise, Idaho, Monday through Friday between 10 a.m. to 3 p.m. Visitors are encouraged to call ahead to 208-387-5348 to facilitate entry to the building.

FOR FURTHER INFORMATION CONTACT: Les Holsapple, Missoula Technology and Development Center (MTDC), 406-829-6761, or Cecilia Johnson, MTDC, 406-329-4819, or Tory Henderson, NIFC, 208-387-5348. Individuals who use telecommunication devices for the deaf (TDD) may call the Federal Relay Service (FRS) at 1-800-877-8339 twenty-four hours a day, every day of the year, including holidays.

SUPPLEMENTARY INFORMATION: Title: Qualified Products List for Foam Fire Suppressants.

OMB Number: 0596-0183.

Expiration Date of Approval: 1/31/2009.

Type of Request: Extension without revision.

Abstract: The Forest Service's Missoula Technology and Development Center (MTDC) staff evaluates and approves commercially available wildland-fire foam products prior to use during fire management activities on lands managed by the Forest Service and Federal cooperators.

Missoula Technology and Development Center staff tests for safety, effectiveness, and efficiency. In conducting safety evaluations, the staff utilizes the “List of Known and Suspected Carcinogens” and the U.S. Environmental Protection Agency's “List of Highly Hazardous Materials,” as well as industry standard confidential disclosure and technical data sheets. Products deemed safe for use do not contain ingredients that create an enhanced risk (in typical use) to firefighters or the public, as well as aquatic (fish and clean water) and terrestrial environments (wildlife and plants). Additional risk analysis may be required.

Effectiveness tests for these products determine product ability to reduce fire spread and intensity even after the water carrier has evaporated away.

Efficiency evaluations are based on:

(1) The range of mix ratios of concentrate products and water appropriate for storage and handling in typical wildland fire operations, providing products that are storable and/or can be kept available on fire equipment; and

(2) Whether readily available equipment and facilities can mix and distribute the product.

Manufacturers submit the following information to MTDC:

(1) List of specific ingredients and quantity used in the formulation of the products,

(2) Identification of specific sources of supply for each ingredient, and

(3) Specific mixing requirements.

Testing begins once manufacturers (and/or their suppliers) have submitted information and payment for analysis and evaluation. If a risk analysis is necessary, the Agency requests a copy of the product labeling from the manufacturer. In such instances, a third party assesses specific levels of products or ingredients in typical application relative to human and environmental health.

This collection of information is necessary for testing and analyzing/evaluating purposes to ensure the safety, effectiveness, and efficiency of products prior to use. Without this information collection, the Agency's ability to solicit and award wildland-fire foam contracts would be compromised.

Estimate of Annual Burden: 2.8 hours.

Type of Respondents: Manufacturers (and their suppliers) of wildland fire foam products.

Estimated Annual Number of Respondents: 5.

Estimated Annual Number of Responses per Respondent: 2.

Estimated Total Annual Burden on Respondents: 28 hours.

Comment Is Invited

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: May 27, 2008.
Robin L. Thompson,
Associate Deputy Chief, State & Private Forestry.

[FR Doc. E8-12352 Filed 6-2-08; 8:45 am]

BILLING CODE 3410-11-P